DEPARTMENT OF COMMERCE

National Oceanic and Atmospheric Administration

50 CFR Part 660

[RTID 0648-XB763]

Fisheries Off West Coast States; Standardized Bycatch Reporting Methodology Amendments to the Fishery Management Plans for Coastal Pelagic Species, West Coast Highly Migratory Species, and Pacific Coast Salmon

AGENCY: National Marine Fisheries Service (NMFS), National Oceanic and Atmospheric Administration (NOAA), Commerce.

ACTION: Notice of Agency decision.

SUMMARY: NMFS announces the approval of three fishery management plan (FMP) amendments: Amendment 19 to the FMP for Coastal Pelagic Species (CPS FMP), Amendment 7 to the FMP for the West Coast Highly Migratory Species (HMS FMP), and Amendment 22 to the FMP for Pacific Coast Salmon Fisheries (Salmon FMP) (collectively Amendments). These Amendments modify language in the CPS, HMS, and Salmon FMPs to more clearly describe and align the FMPs with the way bycatch is currently reported in the fisheries managed by the Council. These Amendments ensure conformance with national guidance for compliance with the standardized bycatch reporting methodology (SBRM) requirement in the Magnuson-Stevens Fishery Conservation and Management Act (MSA).

DATES: The Amendments were approved on July 5, 2022.

ADDRESSES: Electronic copies of the Amendments may be obtained from www.regulations.gov or the West Coast Region website at https://www.fisheries.noaa.gov/action/standardized-bycatch-reporting-methodology-amendments-fishery-management-plans-coastal. Additional documents can be found on the Council's website at www.pcouncil.org.

FOR FURTHER INFORMATION CONTACT: For CPS—Taylor Debevec at (562) 980-4066 or taylor.debevec@noaa.gov. For HMS—Celia Barroso at (562) 432-1850 or celia.barroso@noaa.gov. For Salmon—Jeromy Jording at (360) 763-2268 or jeromy.jording@noaa.gov.

SUPPLEMENTARY INFORMATION:

Background

The Magnuson-Stevens Act requires that each regional fishery management council submit any FMP amendment it prepares to NMFS for review and approval, disapproval, or partial approval by the Secretary. 16 U.S.C. 1854(a). NMFS manages the CPS, HMS, and salmon fisheries in the Pacific Coast exclusive economic zone under the CPS, HMS, and Salmon FMPs, respectively. The Pacific Fishery Management Council (Council) prepared these FMPs under the authority of the Magnuson-Stevens Act, 16 U.S.C. 1801 et seq. Regulations governing U.S. fisheries and implementing the FMPs appear at 50 CFR parts 600 and 660.

Section 303(a)(11) of the Magnuson-Stevens Act requires that any FMP establish a SBRM to assess the amount and type of bycatch occurring in the fishery, and include conservation and management measures that, to the extent practicable and in the following priority—(A) minimize bycatch, and (B) minimize the mortality of bycatch that cannot be avoided. (16 U.S.C. 1853(a)(11))

On January 19, 2017, NMFS published a final rule (82 FR 6317) establishing national guidance regulations at 50 CFR 600.1600 through 50 CFR 600.1610 for compliance with the Magnuson-Stevens Act SBRM requirement (SBRM regulations). The SBRM regulations require regional fishery management councils, in coordination with NMFS, to review their FMPs and make any necessary changes so all FMPs are consistent with the guidance.

The SBRM regulations define an SBRM as a consistent procedure or procedures used to collect, record, and report bycatch data in a fishery managed under an FMP. This information, in conjunction with other relevant sources, is used to assess the amount and type of bycatch occurring in the fishery and inform the development of conservation and management measures to minimize bycatch. The SBRM regulations require the Council to explain how each FMP's SBRM meets the purpose described in the national guidelines, based on an analysis of four considerations: (1) Characteristics of bycatch in the fishery, (2) the feasibility of the reporting methodology, (3) the uncertainty of data resulting from the methodology, and (4) how the data will be used to assess the amount and type of bycatch occurring in the fishery (50 CFR 600.1610(a)). The Council undertook a review of its FMPs to ensure they met this requirement. That review resulted in the three Amendments referenced in this notice that make additions and modifications to the CPS, HMS, and Salmon FMPs to clearly and accurately describe the SBRM for those fisheries, consistent with the SBRM regulations.

Further detail describing the Amendments was provided in the Notice of Availability for this action and is not repeated here.

Procedural Aspects of the Amendments

The Council submitted the Amendments to the Secretary for review on April 4, 2022. On April 12, 2022, NMFS published a notice of availability (NOA) for the Amendments, including background on the rationale for how the respective amendments proposed to satisfy the requirements of the SBRM regulations, and requested public review and comment (87 FR 21603). Public comments were received pertaining to the Salmon FMP amendment and are addressed below.

The Amendments do not add any new reporting requirements and do not change any regulatory requirements. Therefore, no proposed or final rule was prepared. This action only modifies language in the CPS, HMS, and Salmon FMPs to more clearly describe and align with how bycatch is currently reported in the fisheries managed by the Council.

Comments and Responses

NMFS received a combined 17,355 comments regarding the Amendment 22 for the Salmon FMP. These comments were directed at actions to protect Southern Resident Killer Whales (SRKW) and are not relevant to the development of SBRM for ocean salmon fisheries. Rather, these comments reiterated comments NMFS previously addressed in the final environmental assessment (EA) for FMP Amendment 21 (https://www.fisheries.noaa.gov//action/amendment-21-pacific-coast-salmon-fishery-management-plan), in the notice of agency decision (86 FR 51017, September 14, 2021), and the West Coast Salmon Fisheries 2022

Specifications and Management Measures (https://www.federalregister.gov/documents/2022/05/16/2022-10430/fisheries-off-west-coast-states-west-coast-salmon-fisheries-2022-specifications-and-management).

Authority: 16 U.S.C. 1801 et seq.

Dated: July 5, 2022.
Samuel D. Rauch III,
Deputy Assistant Administrator for Regulatory Programs, National Marine Fisheries Service.

[FR Doc. 2022-14597 Filed 7-7-22; 8:45 am]

BILLING CODE 3510-22-P